DEPARTMENT OF TRANSPORTATION

Federal Aviation Administration

14 CFR Part 39

[Docket No. 2003-NM-275-AD; Amendment 39-13436; AD 2004-02-01]

RIN 2120-AA64

Airworthiness Directives; Gulfstream Model G-V Series Airplanes

AGENCY: Federal Aviation Administration, DOT.

ACTION: Final rule; request for comments.

SUMMARY: This amendment adopts a new airworthiness directive (AD) that is applicable to certain Gulfstream Model G-V series airplanes. This action requires a one-time inspection of the landing gear selector dump valve (LGSDV) to determine the serial number (S/N). For any part with an affected S/N, or for any part for which the S/N cannot be determined, this action requires replacing the LGSDV with a cleaned part having an S/N within the affected range; or replacing the LGSDV with a new or serviceable part that has an S/N outside the affected range. This action is necessary to prevent uncommanded unlocking of the landing gear, which could result in collapse of the landing gear. This action is intended to address the identified unsafe condition.

DATES: Effective February 6, 2004.

The incorporation by reference of certain publications listed in the regulations is approved by the Director of the Federal Register as of February 6, 2004.

Comments for inclusion in the Rules Docket must be received on or before February 23, 2004.

ADDRESSES: Submit comments in triplicate to the Federal Aviation Administration (FAA), Transport Airplane Directorate, ANM-114, Attention: Rules Docket No. 2003-NM-275-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2003-NM-275-AD” in the subject line and need not be submitted in triplicate. Comments sent via fax or the Internet as attached electronic files must be formatted in Microsoft Word 97 or 2000 or ASCII text.

The service information referenced in this AD may be obtained from Gulfstream Aerospace Corporation, P.O. Box 2206, M/S D-10, Savannah, Georgia 31402-9980. This information may be examined at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

FOR FURTHER INFORMATION CONTACT: Darby Mirocha, Aerospace Engineer, Systems and Flight Test Branch, ACE-116A, FAA, Atlanta Aircraft Certification Office, One Crown Center, 1895 Phoenix Boulevard, suite 450, Atlanta, Georgia 30349; telephone (770) 703-6095; fax (770) 703-6097.

SUPPLEMENTARY INFORMATION: The FAA has received reports that an unsafe condition may exist on certain Gulfstream Model G-V series airplanes. While on approach, a Model G-V series airplane experienced uncommanded unlocking of the landing gear following the initial “down and locked” indication. The airplane landed safely after the flightcrew used the emergency landing gear extension system. Investigators found foreign object debris in the landing gear selector dump valve (LGSDV). Subsequent investigation revealed that valves within a certain range of serial numbers (S/Ns) were not adequately cleaned during manufacturing. This condition, if not corrected, could result in uncommanded unlocking of the landing gear, which could cause the landing gear to collapse.

Explanation of Relevant Service Information

The FAA has reviewed and approved Gulfstream GV Customer Bulletin 114, dated December 15, 2003, which describes procedures for a one-time inspection of the LGSDV to determine the S/N of the valve. For any LGSDV with an affected S/N, the customer bulletin describes procedures for replacing the valve with a cleaned, new, or serviceable valve. Accomplishment of the action specified in the customer bulletin is intended to adequately address the identified unsafe condition.

Explanation of Requirements of Rule

Since an unsafe condition has been identified that is likely to exist or develop on other airplanes of the same type design registered in the United States, this AD is being issued to prevent uncommanded unlocking of the landing gear, which could result in collapse of the landing gear. This AD requires a one-time inspection of the LGSDV to determine the S/N of the valve. For any LGSDV with an affected S/N, or for any LGSDV for which the S/N cannot be determined, this AD requires replacement of the LGSDV with a cleaned part having an S/N within the affected range, or with a new or serviceable part having an S/N outside the affected range. The actions are required to be accomplished in accordance with the customer bulletin described previously, except as discussed below.

Difference Between the AD and the Customer Bulletin

Operators should note that, although the Accomplishment Instructions of the referenced customer bulletin describe procedures for submitting a service reply card to the manufacturer, this proposed AD would not require those actions.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the customer bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-275-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-02-01 Gulfstream Aerospace Corporation: Amendment 39-13436. Docket 2003-NM-275-AD.

Applicability: Model G-V series airplanes, certificated in any category; equipped with a landing gear selector dump valve (LGSDV) having part number 1159SCH512-7, -9, or -19.

Compliance: Required as indicated, unless accomplished previously.

To prevent uncommanded unlocking of the landing gear, which could result in collapse of the landing gear, accomplish the following:

Inspection To Determine Serial Number

(a) Within 45 days after the effective date of this AD: Inspect the LGSDV located in the main wheel well to determine whether any serial number (S/N) listed in paragraph II.B. of Part I of the Accomplishment Instructions of Gulfstream GV Customer Bulletin 114, dated December 15, 2003, is installed.

Replacement, if Necessary

(b) Within 90 days after the effective date of this AD: Replace, per paragraph (b)(1) or (b)(2) of this AD, any LGSDV which has been determined by the inspection required by paragraph (a) of this AD to have an affected S/N; or any LGSDV for which the S/N cannot be determined. Replace in accordance with Part II of the Accomplishment Instructions of Gulfstream GV Customer Bulletin 114, dated December 15, 2003.

(1) Replace the affected LGSDV with an LGSDV having an S/N inside the affected range that has been cleaned in accordance with the customer bulletin.

(2) Replace the affected LGSDV with a new or serviceable part having an S/N outside the affected range.

Parts Installation

(c) As of the effective date of this AD, no person may install on any airplane an LGSDV having an S/N listed in paragraph II.B. of Part I of the Accomplishment Instructions of Gulfstream Customer Bulletin 114, dated December 15, 2003, unless it has been cleaned in accordance with the customer bulletin.

No Reporting Requirement

(d) Although the customer bulletin referenced in this AD specifies to submit a service reply card to the manufacturer, this AD does not include such a requirement.

Alternative Methods of Compliance

(e) In accordance with 14 CFR 39.19, the Manager, FAA, Atlanta Aircraft Certification Office, is authorized to approve alternative methods of compliance for this AD.

Incorporation by Reference

(f) The actions shall be done in accordance with Gulfstream GV Customer Bulletin 114, dated December 15, 2003. This incorporation by reference was approved by the Director of the Federal Register in accordance with 5 U.S.C. 552(a) and 1 CFR part 51. Copies may be obtained from Gulfstream Aerospace Corporation, P.O. Box 2206, M/S D-10, Savannah, Georgia 31402-9980. Copies may be inspected at the FAA, Transport Airplane Directorate, 1601 Lind Avenue, SW., Renton, Washington; or at the FAA, Atlanta Aircraft Certification Office, One Crown Center, 1895 Phoenix Boulevard, suite 450, Atlanta, Georgia; or at the Office of the Federal Register, 800 North Capitol Street, NW., suite 700, Washington, DC.

Effective Date

(g) This amendment becomes effective on February 6, 2004.

Issued in Renton, Washington, on January 8, 2004.
Ali Bahrami,
Acting Manager, Transport Airplane Directorate, Aircraft Certification Service.

[FR Doc. 04-965 Filed 1-21-04; 8:45 am]

BILLING CODE 4910-13-P